DEPARTMENT OF HEALTH AND HUMAN SERVICES

Office of the Secretary

Office of Public Health and Science; Office of Minority Health; Availability of Funds for a Cooperative Agreement for the HIV/AIDS Regional Resource Network Program

AGENCY: Office of the Secretary, Office of Public Health and Science, Office of Minority Health.

ACTION: Notice of availability of funds and request for applications for a cooperative agreement for the HIV/AIDS regional resource network program.

Program Title: HIV/AIDS Regional Resource Network Program.

OMB Catalog of Federal Domestic Assistance: The OMB Catalog of Federal Domestic Assistance number for the HIV/AIDS Regional Resource Network Cooperative Agreement Program is 93.004.

Authority: This program is authorized under section 1707(e)(1) of the Public Health Service Act, as amended.

Purpose: The purpose of the HIV/AIDS Regional Resource Network Program is to increase the capacity of community-based organizations (CBOs), including small, minority CBOs, serving communities of color to provide prevention and early intervention services for poor, minority communities disproportionately impacted by HIV/AIDS and STDs. The program's goals are to:

• Facilitate the involvement of CBOs, including minority CBOs, serving communities of color in federal regional HIV/AIDS initiatives, planning, and networking; and

• Provide training and technical assistance to CBOs, including minority CBOs, serving communities of color to build their capacity to serve racial and ethnic minority communities with a high incidence of HIV.

The program is intended to demonstrate that by involving CBOs, including minority CBOs, serving communities of color in federal regional planning and networking efforts, the coordination, comprehensiveness, and quality of HIV/AIDS services to minority communities will be improved.

Eligible Applicants: Private, nonprofit organizations are eligible to apply for this cooperative agreement.

Note: Public organizations, universities and institutions of higher education are not eligible to apply for this cooperative agreement.

Organizations are not eligible to receive awards from more than one Office of Minority Health (OMH) program concurrently as the grant recipient. An organization may submit only one proposal under this announcement.

Availability of Funds: Approximately $1.2 million is expected to be available for one competitive award in FY 2001 for a 12-month period. Support may be requested for a total project period not to exceed 3 years.

The applicant chosen through the competitive review process:

• Will begin the HIV/AIDS Regional Resource Network Program on September 30, 2001.

• Will be able to apply for a noncompeting continuation award of up to $1.2 million for each of two additional years. After Year 1, funding is based on:

a. The amount of money available; and

b. Success or progress in meeting project objectives.

Note: For the noncompeting continuation awards, the grantee must submit continuation applications, written reports, and continue to meet the established program guidelines.

Use of Cooperative Agreement Funds: Budgets of up to $1.2 million total costs (direct and indirect) per year may be requested to cover costs of:

• Personnel.

• Consultants.

• Supplies.

• Equipment.

• Grant related travel.

• Other grant related costs.

Funds may not be used for:

• Medical treatment.

• Construction.

• Building alterations or renovations.

Note: All budget requests must be fully justified in terms of the proposed objectives and activities and include a computational explanation of how costs were determined.

Background

The mission of the Office of Minority Health (OMH) is to improve the health of racial and ethnic minority populations through the development of health policies and programs that will help to address health disparities and gaps. The role of OMH is to serve as the focal point within HHS for service demonstrations, coalition and partnership building, and related efforts to address the health needs of racial and ethnic minorities. In keeping with this mission, the HIV/AIDS Regional Resource Network Program is to assist in addressing the HIV/AIDS issues facing minority communities disproportionately impacted by the epidemic.

In FY 1999, the Office of Public Health and Science, Office of Population Affairs, launched the HIV/AIDS Regional Resource Network Program as a two year program to conduct training and technical assistance activities for the purpose of increasing the capacity of small CBOs to provide prevention and early intervention services in poor, minority communities disproportionately impacted by HIV/AIDS, sexually transmitted diseases, and unwanted pregnancies. A demonstration project was developed to focus on improving the coordination, comprehensiveness, and quality of HIV/AIDS service provision by bringing CBOs serving communities of color into federal regional planning and networking efforts. Training and technical assistance was provided to high-risk communities to facilitate local and regional planning and prevention efforts, and create mechanisms for closer working relationships with federal regional offices. Regional Resource Consultants were placed in 5 of the HHS Regional Offices (New York, Atlanta, Dallas, Chicago, and San Francisco) to identify and network with HIV/AIDS organizations and agencies within their regions, to develop a regional directory of HIV/AIDS service organizations, and to oversee the distribution of capacity-building awards. In this FY 2001 cooperative agreement announcement, OMH is building on the efforts of the last two years and expanding the project to include all 10 HHS Regions.

Project Requirements:

The applicant must propose a model program to be carried out within each of the 10 HHS Regions that addresses the following goals:

• Facilitate the involvement of CBOs, including minority CBOs, serving communities of color in federal regional HIV/AIDS initiatives, planning, and networking; and

• Provide training and technical assistance to CBOs, including minority CBOs, serving communities of color to build their capacity to serve racial and ethnic minority communities with high incidence of HIV.

Note: A listing of the 10 HHS Regions and the Regional Health Administrator contacts is provided in the application kit.

Program Activities: In conducting activities to achieve the purpose of this cooperative agreement program, the grantee will be responsible for carrying out the activities listed under

1. Grantee Activities. The ten HHS Regional Offices and the OMH will be responsible for the activities listed under 2. HHS Regional Office Activities and 3. OMH Activities.

1. Grantee Activities:

a. Collaborate onsite with the 10 HHS Regional Offices to carry out the goals and activities of the cooperative agreement program. Such collaboration is to include assignment and supervision of a Regional Resource Consultant (RRC) in each regional office. The grantee is encouraged to involve the HHS Regional Offices in the selection of the RRCs;

b. Identify CBOs, including minority CBOs, serving communities of color which provide support and ancillary services to individuals and families affected and infected by HIV/AIDS;

c. Identify the training and technical assistance needs of these organizations and link them with appropriate HHS resources;

d. Establish networking relationships between the HHS Regional Offices and the CBOs and foster closer collaboration between these CBOs and federal, state and local governments;

e. Provide limited capacity building funds to eligible CBOs (NOTE: 40% of total cooperative agreement funds must be allocated for CBO capacity building awards);

f. Maintain regional resource directories of CBOs, including minority CBOs, serving communities of color that work with racial and ethnic communities in the area of HIV/AIDS programs or services; and

g. Develop a technical assistance/skills-building manual for use by targeted and other organizations serving communities of color to enhance their skills to serve racial and ethnic minority communities with high incidence of HIV.

2. HHS Regional Offices Activities:

a. Assist in the identification and selection of RRCs and provide in-kind support to the RRCs including office space, telephone usage, and Internet access;

b. Designate a federal employee in the regional office where the RRC is placed to oversee the consultant's activities (NOTE: Supervision of the RRCs is the responsibility of the grantee);

c. Participate in the review of regional capacity-building awards to eligible CBOs; and

d. Assist the RRCs in expanding their networking and planning relationships to include identifying tribal resources, coordinating efforts with HHS crisis response teams, and working with local and state prison systems to implement HIV screening, prevention, and treatment programs.

3. OMH Activities:

a. Provide assistance in the development of project methodologies and analysis as needed;

b. Provide assistance with linkages to federal agencies for technical assistance, training and other resources; and

c. Establish an Advisory Committee composed of members from HHS including the Regional Offices to make recommendations and provide advice and guidance in the implementation of program objectives.

Application Kit

• For this cooperative agreement, Form PHS 5161-1 (Revised July 2000 and approved by OMB under Control Number 0937-0189) must be used.

• An applicant is advised to pay close attention to the specific program guidelines and general instructions provided in the application kit.

• To get an application kit, write to: Ms. Karen Campbell, Grants Management Officer, Division of Management Operations, Office of Minority Health, Rockwall II Building, Suite 1000, 5515 Security Lane, Rockville, MD 20852.

Or call Karen Campbell at (301) 443-8441.

Where To Send Applications

Send the original and 2 copies of the complete grant application to: Ms. Karen Campbell, Grants Management Officer, Division of Management, Operations, Office of Minority Health, Rockwall II Building, Suite 1000, 5515 Security Lane, Rockville, MD 20852.

Application Deadline

To receive consideration, grant applications must be received by the OMH Grants Management Office by August 20, 2001. Applications will be considered as meeting the deadline if they are: (1) Received on or before the deadline date, or (2) postmarked on or before the deadline date and received in time for orderly processing. A legibly dated receipt from a commercial carrier or U.S. Postal Service will be accepted in lieu of a postmark. Private metered postmarks will not be accepted as proof of timely mailing. Applications submitted by facsimile transmission (FAX) or any other electronic format will not be accepted. Applications which do not meet the deadline will be considered late and will be returned to the applicant unread.

How to Get Help

In addition to contacting Karen Campbell for application kits, she may also be contacted for technical assistance on budget and business aspects of the application. For further explanations and answers to questions on programmatic aspects, contact: Ms. Cynthia H. Amis, Director, Division of Program Operations, Office of Minority Health, Rockwall II Building, Suite 1000, 5515 Security Lane, Rockville, MD 20852.

Or call: Cynthia Amis at (301) 594-0769.

For additional assistance contact the OMH Regional Minority Health Consultants listed in the grant application kit.

For health information contact the OMH Resource Center at 1-800-444-6472.

Review of Applications

• Applications will be screened upon receipt. Those that are judged to be incomplete, non-responsive, or nonconforming to the announcement will be returned without comment.

• An organization may submit no more than one proposal under this announcement.

• Organizations submitting more than one proposal will be deemed ineligible. The proposals will be returned without comment.

• Accepted applications will be reviewed for technical merit in accordance with PHS policies.

• Applications will be evaluated by an Objective Review Committee. Committee members are chosen for their expertise in minority health, their experience in technical assistance and capacity development, and their understanding of the unique health problems and related issues confronted by racial and ethnic minorities in the United States.

Application Review Criteria

The technical review of applications will consider the following 5 generic factors (including Background, Objectives, Methodology, Evaluation, and Management Plan), listed below in descending order of priority.

Factor 1: Methodology (35%)

• Appropriateness of proposed approach for regional collaboration including any established organizational linkages for providing training and technical assistance related to HIV/AIDS.

• Appropriateness of specific activities for providing training and technical assistance related to HIV/AIDS and capacity development.

• Logic and sequencing of the planned approaches in relation to the provision of HIV/AIDS training and technical assistance.

Factor 2: Evaluation (20%)

• Thoroughness, feasibility, and appropriateness of the evaluation design, data collection, and analysis procedures.

• Clear intent and plans to document the activities and their outcomes.

• Clear indication that the project will result in a model that can be replicated.

Factor 3: Background (15%)

• Established level of cultural competence and sensitivity to the issues of minority populations disproportionately impacted by HIV/AIDS.

• Expertise and understanding of HIV/AIDS prevention and treatment service delivery systems especially as related to HIV/AIDS care among minority populations.

• Demonstrated access to targeted organizations and experience in working with CBOs, including minority CBOs, serving communities of color.

• Demonstrated experience in networking, planning, and implementing activities at a regional level.

• Demonstrated outcomes of past similar efforts/activities with the target population.

Factor 4: Objectives (15%)

• Merit of the objectives.

• Relevance to the program purpose and stated problem.

• Attainability in the stated time frames.

Factor 5: Management Plan (15%)

• Demonstrated knowledge/skills in organizational management, diversification of fiscal base, and organizational development; and ability to mobilize a strong training and technical assistance capacity onsite.

• Ability to plan and coordinate efforts at a regional level.

• Capability to manage and evaluate the project as determined by:

a. The qualifications of proposed staff or requirements for “to be hired” staff.

b. Staff level of effort.

c. Management experience of the applicant.

d. Clarity of the applicant's organizational chart.

Award Criteria

Funding decisions will be determined by the Deputy Assistant Secretary for Minority Health of the Office of Minority Health, and will take under consideration the recommendations and ratings of the Objective Review Committee.

Reporting and Other Requirements

General Reporting Requirements

A successful applicant under this notice will submit: (1) progress reports; (2) an annual Financial Status Report; and (3) a final progress report and Financial Status Report in the format established by the OMH, in accordance with provisions of the general regulations which apply under 45 CFR Part 74.51-74.52.

Public Health System Reporting Requirements

This program is subject to Public Health Systems Reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate State and local health agencies in the area(s) to be impacted: (a) A copy of the face page of the application (SF 424); and (b) a summary of the project (PHSIS), not to exceed one page, which provides: (1) A description of the population to be served; (2) a summary of the services to be provided; and (3) a description of the coordination planned with the appropriate State or local health agencies. Copies of the letters forwarding the PHSIS to these authorities must be contained in the application materials submitted to the OMH.

State Reviews

This program is subject to the requirements of Executive Order 12372 which allows States the option of setting up a system for reviewing applications from within their States for assistance under certain Federal programs. The application kit available under this notice will contain a list of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline established by the OMH Grants Management Officer.

The OMH does not guarantee that it will accommodate or explain its responses to State process recommendations received after that date. (See “Intergovernmental Review of Federal Programs” Executive Order 12372 and 45 CFR part 100 for a description of the review process and requirements).

Additional Background Information

Disproportionate Effect of HIV/AIDS on Minorities

Statistics indicate that although advances have been made in the treatment of HIV/AIDS, this epidemic continues as a significant threat to the public health of the United States. Despite showing a decline in the past few years, HIV/AIDS remains a disproportionate threat to minorities. According to the CDC HIV/AIDS Surveillance Report December 1999 Year-end Edition (Vol. 11—Number 2), during the 1990s the epidemic shifted steadily toward a growing proportion of AIDS cases in African-Americans and Hispanics. In absolute numbers, African-Americans have outnumbered whites in new AIDS diagnoses and deaths since 1996 and the number of persons living with AIDS since 1998. While African-Americans and Hispanics respectively represent approximately 13% and 10% of the U.S. population, approximately 37% of the more than 733,000 reported total AIDS cases in 1999 were African-American and 18% are Hispanic.

In 1999, more African-Americans were reported with AIDS than any other racial/ethnic group. Of the total HIV infection cases reported through December 1999, 52% (64,299) were reported among African-Americans, 38% (46,277) were reported among whites, and 8% (9,296) were reported among Hispanics. Among women and children with AIDS, African-Americans have been especially affected, representing 63% of all women reported with AIDS in 1999 and 65% of reported pediatric AIDS cases in 1999. During 1999, the rate of new AIDS cases per 100,000 population in the U.S. was 84.2 among African-Americans, 34.6 among Hispanics, 9.0 among whites, 11.3 among American Indians/Alaska Natives, and 1.4 among Asians/Pacific Islanders.

The recent CDC Morbidity and Mortality Weekly Report (June 1, 2001/Volume 50, Number 21) describes the changes in the characteristics of persons with AIDS since 1981 with the greatest impact of the epidemic among men who have sex with men (MSM) and among racial/ethnic minorities. The report presents data on the number and percentage of persons with AIDS by race/ethnicity since the first AIDS cases were reported in the U.S. in June 1981. These data show overall increases in AIDS cases among minority populations from 1981 to 2000: African-Americans (25.5% to 44.9%); Hispanics (14% to 19.7%); Asian/Pacific Islanders (0.6% to 0.8%), and American Indians/Alaska Natives (0.1% to 0.4%). In contrast, the data show a decrease in AIDS cases among whites (59.7% to 34%) for the same period. The report also points to a resurgent HIV epidemic among men who have sex with men (MSM), particularly among young minority males. The prevalence of HIV infection was higher among African-Americans (14.1%), Hispanics (6.9%), and American Indians/Alaska Natives (6.7%) than among whites (3.3%) and Asian/Pacific Islanders (3%).

Healthy People 2010: The PHS is committed to achieving the health promotion and disease prevention objectives of Healthy People 2010, a PHS-led national activity announced in January 2000 to eliminate health disparities and improve years and quality of life. HIV/AIDS is one focus area of Healthy People 2010. More information may be found on the Healthy People 2010 web site: http://www.health.gov/healthypeople, and copies of the document may be downloaded. Copies of the Healthy People 2010: Volumes I and II can be purchased by calling (202) 512-1800 (cost $70.00 for printed version; $19.00 for CD-ROM). Another reference is the Healthy People 2010 Review-1998-99. For 1 free copy of the Healthy People 2010 Review-1998-99, contact: The National Center for Health Statistics, Division of Data Services, 6525 Belcrest Road, Room 1064, Hyattsville, MD 20782, or telephone at (301) 458-4636.

Ask for HHS Publication No. (PHS) 99-1256. This document may also be downloaded from the NCHS web site: http://www.cdc.gov/nchs.

Definitions

For purposes of this cooperative agreement announcement, the following definitions are provided:

Community-Based Organization— Private, nonprofit organizations and public organizations that are representative of communities or significant segments of communities where the control and decision-making powers are located at the community level.

Minority Community-Based Organization—Private nonprofit community-based organizations or local affiliates of national organizations that have a governing board composed of 51 percent or more racial/ethnic minority members and a significant number of minorities employed in key program positions.

Minority Populations—

• American Indian or Alaska Native.

• Asian.

• Black or African American.

• Hispanic or Latino.

• Native Hawaiian or Other Pacific Islander.

(Revision to the Standards for the Classification of Federal Data on Race and Ethnicity, Federal Register, Vol. 62, No. 210, pg. 58782, October 30, 1997.)

Dated: July 13, 2001.
Nathan Stinson, Jr.,
Deputy Assistant Secretary for Minority Health.

[FR Doc. 01-18070 Filed 7-18-01; 8:45 am]

BILLING CODE 4150-29-P